NUCLEAR REGULATORY COMMISSION

Draft Regulatory Guide: Issuance, Availability

AGENCY: Nuclear Regulatory Commission.

ACTION: Notice of Issuance and Availability of Draft Regulatory Guide, DG-3035.

FOR FURTHER INFORMATION CONTACT: Breeda Reilly, U.S. Nuclear Regulatory Commission, Washington, DC 20555-0001, telephone: (301) 492-3110 or e-mail to Breeda.Reilly@nrc.gov.

SUPPLEMENTARY INFORMATION:

I. Introduction

The U.S. Nuclear Regulatory Commission (NRC) is issuing for public comment a draft regulatory guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “General Fire Protection Guide for Plutonium Processing and Fuel Fabrication Plants,” is temporarily identified by its task number, DG-3035, which should be mentioned in all related correspondence. DG-3035 is the proposed Revision 1 of Regulatory Guide 3.16, dated January 1974.

DG-3035 identifies NUREG-1718, “Standard Review Plan for the Review of an Application for a Mixed Oxide (MOX) Fuel Fabrication Facility,” issued August 2000 (SRP), as the method that the staff of the NRC considers acceptable for use in complying with Title 10, Section 70.23(a)(3) and (a)(4), of the Code of Federal Regulations (10 CFR 70.23(a)(3) and (a)(4)) with respect to fire protection, and with 10 CFR 70.61, “Performance Requirements,” with respect to potential radiological consequences from fires, for a mixed oxide (MOX) facility.

The NRC regulations in 10 CFR Part 70, “Domestic Licensing of Special Nuclear Material,” establish procedures and criteria for the licensing of special nuclear material (SNM). In 10 CFR Part 70, Subpart D, “License Applications,” the regulations specify the contents of license applications and the requirements for approving applications. As stipulated in 10 CFR 70.23(a) and (b), the requirements for approval include that the applicant's proposed equipment, facilities, and procedures be adequate to protect health and minimize danger to life or property.

II. Further Information

The NRC staff is soliciting comments on DG-3035. Comments may be accompanied by relevant information or supporting data, and should mention DG-3035 in the subject line. Comments submitted in writing or in electronic form will be made available to the public in their entirety through the NRC's Agencywide Documents Access and Management System (ADAMS).

Personal information will not be removed from the comments. Comments may be submitted by any of the following methods:

1. Mail to: Rulemaking, Directives, and Editing Branch, Office of Administration, U.S. Nuclear Regulatory Commission, Washington, DC 20555-0001.

2. E-mail to: NRCREP@nrc.gov.

3. Hand-deliver to: Rulemaking, Directives, and Editing Branch, Office of Administration, U.S. Nuclear Regulatory Commission, 11555 Rockville Pike, Rockville, Maryland 20852, between 7:30 a.m. and 4:15 p.m. on Federal workdays.

4. Fax to: Rulemaking, Directives, and Editing Branch, Office of Administration, U.S. Nuclear Regulatory Commission at (301) 415-5144.

Requests for technical information about DG-3035 may be directed to Breeda Reilly at (301) 492-3110 or e-mail to Breeda.Reilly@nrc.gov.

Comments would be most helpful if received by November 13, 2008. Comments received after that date will be considered if it is practical to do so, but the NRC is able to ensure consideration only for comments received on or before this date. Although a time limit is given, comments and suggestions in connection with items for inclusion in guides currently being developed or improvements in all published guides are encouraged at any time.

Electronic copies of DG-3035 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML081910233.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to PDR@nrc.gov.

Regulatory guides are not copyrighted, and Commission approval is not required to reproduce them.

Dated at Rockville, Maryland, this 9th day of September 2008.
For the Nuclear Regulatory Commission.
Stephen C. O'Connor,
Acting Chief, Regulatory Guide Development Branch, Division of Engineering, Office of Nuclear Regulatory Research.

[FR Doc. E8-21566 Filed 9-15-08; 8:45 am]

BILLING CODE 7590-01-P